DEPARTMENT OF STATE

[Public Notice 9090]

U.S. Department of State Advisory Committee on Private International Law (ACPIL): Public Meeting on Electronic Commerce—Identity Management and Related Trust Services; Meeting

The Office of the Assistant Legal Adviser for Private International Law, Department of State, gives notice of a public meeting to discuss the possibility of future work by the United Nations Commission on International Trade Law (UNCITRAL) in the areas of identity management in the electronic realm and related trust services. Identity management is becoming a critical requirement for most substantive online transactions, as each party typically needs a reliable method to verify information regarding the identity of the other party. The public meeting will take place on Friday, May 29, 2015 from 10 a.m. until 4 p.m. EDT. This is not a meeting of the full Advisory Committee.

At its 2014 annual meeting, UNCITRAL decided to explore possible future work in the field of electronic commerce, considering as possible topics, identity management, trust services, electronic transfers and cloud computing. The issue of digital identity management has now surfaced as one of the most important topics, particularly in light of recent legislative enactments in both the European Union and the United States governing identity management services. Accordingly, it is expected that there will be a proposal to the 2015 annual meeting of UNCITRAL to undertake work in the fields of identity management and related trust services.

The purpose of the public meeting is to obtain the views of concerned stakeholders on the possibility of UNCITRAL work in these areas in advance of the annual meeting. This meeting is being held in coordination with the American Bar Association's Identity Management Legal Task Force and Georgetown University Law Center's Center on Transnational Business and the Law.

Time and Place: The meeting will take place from 10 a.m. until 4 p.m. EDT at the Gewirz Student Center, Georgetown University Law Center, 600 New Jersey Avenue NW., Washington, DC 20001. Participants should plan to arrive at the Gewirz Student Center at 9:30 a.m. for registration.

Public Participation: This meeting is open to the public, subject to the capacity of the meeting room. Persons planning to attend should email pil@state.gov providing full name, affiliation and email address. An agenda will be provided to persons who provide notification of their intent to attend the meeting. A member of the public needing reasonable accommodation should email pil@state.gov not later than May 22, 2015. Requests made after that date will be considered, but might not be able to be fulfilled.

Dated: April 6, 2015.
Michael S. Coffee,
Attorney-Adviser, Office of Private International Law, Office of the Legal Adviser, U.S. Department of State.

[FR Doc. 2015-08308 Filed 4-9-15; 8:45 am]

BILLING CODE 4710-08-P